DEPARTMENT OF TRANSPORTATION

National Highway Traffic Safety Administration

[U.S. DOT Docket Number NHTSA-25230]

Reports, Forms, and Recordkeeping Requirements

AGENCY: National Highway Traffic Safety Administration (NHTSA), Department of Transportation.

ACTION: Emergency Federal Register Notice.

SUMMARY: The Department of Transportation has submitted the following emergency processing public information collection request to the Office of Management and Budget for review and clearance under the Paperwork Reduction Act of 1995 (Pub. L. 104-13, 44 U.S.C. Chapter 35). This notice announces that the Information Collection Requested abstracted below has been forwarded to the Office of Management and Budget (OMB) for review and comment. The ICR describes the nature of the information collection and its expected burden. Comments should be directed to the Office of Regulatory Affairs, Office of Management and Budget, 725-17th Street, NW., Washington, DC 20503, Attention NHTSA Desk Officer.

DATES: OMB approval has been requested by August 2, 2006.

FOR FURTHER INFORMATION CONTACT: Complete copies of each request for collection of information may be obtained at no charge from Kathryn Henry, NHTSA 400 Seventh Street, SW., Room 5236, NPO-520, Washington, DC 20590. Ms. Kathryn Henry's telephone number is (202) 366-6918. Please identify the relevant collection of information by referring to its OMB Control Number.

SUPPLEMENTARY INFORMATION: Title: Tombras—NHTSA Segmentation Profiling Questionnaire.

OMB Control Number: To Be Assigned.

Affected Public:

• Individual households.

• Licensed drivers ages 18 to 44 who consume alcohol at a rate of at least four drinks per occasion if the respondent is male or three drinks per occasion if the respondent is female; and who consume alcohol at these rates two or more times per week.

Form Number: NHTSA-1014.

Abstract: The study will gain a comprehensive understanding of the demographics, lifestyle traits and attitudes about drinking and driving among licensed drivers who are at high risk of driving while impaired. By having this information, NHTSA and its state partners can develop and implement more highly targeted and more effective communication campaigns to deter people from drinking and driving.

Estimated Annual Burden: Hours of burden—266.

Number of Respondents: Estimated 800.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: July 12, 2006.
Susan Gorcowski,
Associate Administrator for the Office of Communications and Consumer Information.

[FR Doc. E6-11742 Filed 7-21-06; 8:45 am]

BILLING CODE 4910-59-P